DEPARTMENT OF ENERGY

National Energy Technology Laboratory; Notice of Availability of a Financial Assistance Funding Opportunity Announcement

AGENCY: National Energy Technology Laboratory, Department of Energy (DOE).

ACTION: Notice of availability of a financial assistance funding opportunity announcement.

SUMMARY: Notice is hereby given of the intent to issue Financial Assistance Funding Announcement No. DE-PS26-04NT42023-0 entitled, “Development of Technologies and Capabilities for Developing Coal Energy Resources.”

The Department of Energy (DOE), National Energy Technology Laboratory (NETL), is conducting this funding opportunity announcement to competitively seek cost-shared applications for research and development of technologies enabling development of energy resources needed to ensure the availability of affordable energy for the Nation's future. Through this funding opportunity announcement, DOE/NETL seeks applications for energy research and development related activities that promote the efficient and sound production and use of fossil fuel (coal). Related information on the Fossil Energy Areas of Interest can be found on the NETL Web site (http://www.netl.doe.gov) under “Technologies.”

DATES: The funding opportunity announcement will be available on the “Industry Interactive Procurement System” (IIPS) webpage located at http://e-center.doe.gov on or about November 21, 2003. Applicants can obtain access to the funding opportunity announcement from the address above or through DOE/NETL's Web site at http://www.netl.doe.gov/business. The deadline for submission of applications will be February 24, 2004, not later than 8 p.m. Eastern Time.

ADDRESSES: Questions and comments regarding the content of the announcement should be submitted through the “Submit Question” feature of IIPS at http://e-center.doe.gov. Locate the announcement on IIPS and then click on the “Submit Question” button at the top. Enter required information. DOE will try to respond to a question within 3 days, unless a similar question and answer have already been posted on the website. You will receive an electronic notification that your question has been answered.

Responses to questions may be viewed through the “View Questions” feature. If no questions have been answered, a statement to that effect will appear. You should periodically check “View Questions” for new questions and answers.

Questions regarding how to submit questions or view responses can be e-mailed to the IIPS Help Desk at helpdesk@pr.doe.gov or by calling 1-800-683-0751.

FOR FURTHER INFORMATION CONTACT: Debra A. Duncan, MS 921-107, U.S. Department of Energy, National Energy Technology Laboratory, P.O. Box 10940, MS 921-107, Pittsburgh, PA 15236, E-mail Address: duncan@netl.doe.gov,Telephone Number: 412-386-5700.

SUPPLEMENTARY INFORMATION: Through this funding opportunity announcement, NETL expects to support applications in the Coal and Environmental Systems Program. Coal and Environmental Systems Program has the following five separate (i.e., stand alone) Program Areas of Interest:

Area of Interest 1—Environmental and Water Resources

Subtopic 1A Increased Utilization of the By-Products from Coal Gasification

Area of Interest 2—Carbon Sequestration

Subtopic 2A Direct Capture Technologies

Subtopic 2B Indirect Capture Technologies

Subtopic 2C Technologies for Mitigating Non-CO2 Greenhouse Gas Emissions

Subtopic 2D Monitoring, Verification and Risk Assessment for Carbon Sequestration Options

Area of Interest 3—Power Systems Advanced Research

Subtopic 3A Advanced Sensors and Controls

Subtopic 3B Advanced Materials

Area of Interest 4—Coal Fuels and Hydrogen

Subtopic 4A Coal Derived Hydrogen

Area of Interest 5—Gasification

Subtopic 5A Advanced Gasification Systems

Applicants must select and submit to only one Subtopic in a Program Area of Interest for each application submitted. Multiple applications are welcome, however, each application must have its own unique content and title on the subject line. Identical applications under more than one Subtopic will be rejected.

Once released, the funding opportunity announcement will be available for downloading from the IIPS Internet page. At this Internet site you will also be able to register with IIPS, enabling you to submit an application. The funding opportunity announcement will only be made available in IIPS, no hard (paper) copies of the funding opportunity announcement and related documents will be made available. Telephone requests, written requests, E-mail requests, or facsimile requests for a copy of the funding opportunity announcement package will not be accepted and/or honored. Applications must be prepared and submitted in accordance with the instructions and forms contained in the funding opportunity announcement. The actual funding opportunity announcement document will allow for requests for explanation and/or interpretation.

Issued in Pittsburgh, PA on November 20, 2003.
Dale A. Siciliano,
Director, Acquisition and Assistance Division.

[FR Doc. 03-29985 Filed 12-1-03; 8:45 am]

BILLING CODE 6450-01-P